DEPARTMENT OF COMMERCE

International Trade Administration

[C-570-913]

Certain New Pneumatic Off-the-Road Tires From the People's Republic of China: Preliminary Results of Countervailing Duty Administrative Review; 2014

AGENCY: Enforcement and Compliance, International Trade Administration, Department of Commerce.

SUMMARY: The Department of Commerce (the Department) preliminarily determines that countervailable subsidies are being provided to producers and exporters of new pneumatic off-the-road tires (OTR Tires) from the People's Republic of China (PRC). The period of review (POR) is January 1, 2014, through December 31, 2014. Interested parties are invited to comment on these preliminary results.

DATES: Effective October 14, 2016.

FOR FURTHER INFORMATION CONTACT: Toni Page, Kathryn Wallace, or Chien-Min Yang, AD/CVD Operations, Office VII, Enforcement and Compliance, International Trade Administration, U.S. Department of Commerce, 1401 Constitution Avenue NW., Washington, DC 20230; telephone: (202) 482-1398, (202) 482-6251, or (202) 482-5484 respectively.

Scope of the Order

The products covered by the order are new pneumatic tires designed for off-the-road (OTR) and off-highway use. For a full description of the scope of this order, see the Preliminary Decision Memorandum.

Methodology

On September 4, 2008, the Department issued a countervailing duty order on new pneumatic tires designed for OTR and off-highway use.¹ The Department is conducting this administrative review in accordance with section 751(a)(1)(A) of the Tariff Act of 1930, as amended (the Act). For each of the subsidy programs found countervailable, we preliminarily find that there is a subsidy, (i.e., a financial contribution from an authority that gives rise to a benefit to the recipient) and that the subsidy is specific.² In making this preliminary determination, the Department relied, in part, on facts otherwise available, with the application of adverse inferences.³ For further information, see “Use of Facts Otherwise Available and Application of Adverse Inferences” in the accompanying Preliminary Decision Memorandum. A list of topics discussed in the Preliminary Decision Memorandum is provided at Appendix I to this notice.

¹ See Certain New Pneumatic Off-the-Road Tires From the People's Republic of China: Countervailing Duty Order, 73 FR 51627 (September 4, 2008) (OTR CVD Order).

² See sections 771(5)(B) and (D) of the Act regarding financial contribution; section 771(5)(E) of the Act regarding benefit; and section 771(5A) of the Act regarding specificity.

³ See section 776(a) of the Act.

The Preliminary Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Preliminary Decision Memorandum can be accessed directly at http://enforcement.trade.gov/frn/. The signed Preliminary Decision Memorandum and the electronic version of the Preliminary Decision Memorandum are identical in content.

Preliminary Results of Review

As a result of this review, we preliminarily determine the countervailable subsidy rates to be:

Company | Subsidy rate (percent)
Guizhou Tyre Co., Ltd | 38.19
Xuzhou Xugong Tyres Co., Ltd | 70.20
Non Selected Companies | 54.20

Preliminary Rate for Non-Selected Companies Under Review

There are 44 companies for which a review was requested that were not selected as mandatory respondents. We preliminarily based the non-selected rate on an average of Guizhou Tyre's and Xuzhou Xugong's subsidy rates. For a list of these companies, please see Appendix II.

Disclosure and Public Comment

The Department will disclose to parties to this proceeding the calculations performed in reaching the preliminary results within five days of the date of publication of these preliminary results.⁴ Interested parties may submit written comments (case briefs) within 30 days of publication of the preliminary results and rebuttal comments (rebuttal briefs) within five days after the time limit for filing case briefs.⁵ Rebuttal briefs must be limited to issues raised in the case briefs.⁶ Parties who submit case or rebuttal briefs are requested to submit with the argument: (1) a statement of the issue; (2) a brief summary of the argument; and (3) a table of authorities.⁷

⁴ See 19 CFR 351.224(b).

⁵ See 19 CFR 351.309(c)(l)(ii) and 351.309(d)(l).

⁶ See 19 CFR 351.309(d)(2).

⁷ See 19 CFR 351.309(c)(2) and (d)(2).

Interested parties who wish to request a hearing must do so within 30 days of publication of these preliminary results by submitting a written request to the Assistant Secretary for Enforcement and Compliance, U.S. Department of Commerce, using Enforcement and Compliance's ACCESS system.⁸ Requests should contain the party's name, address, and telephone number, the number of participants, and a list of the issues to be discussed. If a request for a hearing is made, we will inform parties of the scheduled date for the hearing which will be held at the U.S. Department of Commerce, 14th Street and Constitution Avenue NW, Washington, DC 20230, at a time and location to be determined.⁹ Parties should confirm by telephone the date, time, and location of the hearing. Issues addressed at the hearing will be limited to those raised in the briefs.¹⁰ All briefs and hearing requests must be filed electronically and received successfully in their entirety through ACCESS by 5:00 p.m. Eastern Time on the due date.

⁸ See 19 CFR 351.310(c).

⁹ See 19 CFR 351.310.

¹⁰ See 19 CFR 351.310(c).

Unless the deadline is extended pursuant to section 751(a)(3)(A) of the Act, the Department intends to issue the final results of this administrative review, including the results of our analysis of the issues raised by the parties in their comments, within 120 days after publication of these preliminary results.

Assessment Rates and Cash Deposit Requirement

Upon issuance of the final results, the Department shall determine, and U.S. Customs and Border Protection (CBP) shall assess, countervailing duties on all appropriate entries covered by this review. We intend to issue instructions to CBP 15 days after publication of the final results of review.

Pursuant to section 751(a)(2)(C) of the Act, the Department also intends to instruct CBP to collect cash deposits of estimated countervailing duties, in the amounts shown above for each of the respective companies shown above, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

These preliminary results of review are issued and published in accordance with sections 751(a)(l) and 777(i)(l) of the Act and 19 CFR 351.213 and 351.221(b)(4).

Dated: October 5, 2016.
Ronald K. Lorentzen,
Acting Assistant Secretary for Enforcement and Compliance.

Appendix I

List of Topics Discussed in the Preliminary Decision Memorandum

I. Summary

II. Background

III. Scope of the Order

IV. Use of Facts Otherwise Available and Application of Adverse Inferences

V. Application of the Countervailing Duty Law to Imports From the PRC

VI. Subsidies Valuation Information

VII. Interest Rate Benchmarks, Discount Rates, Input, Electricity, and Land Benchmarks

VIII. Analysis of Programs

IX. Disclosure and Public Comment

X. Verification

XI. Conclusion

Appendix II

Companies Not Selected for Review

1. Air Sea Transport Inc.

2. Beijing Kang Jie Kong Intl Cargo Agent Co Ltd.

3. C&D Intl Freight Forward Inc.

4. Caesar Intl Logistics Co Ltd.

5. CD Intl Freight Forwarding.

6. Cheng Shin Rubber (Xiamen) Ind Ltd.

7. China Intl Freight Co Ltd.

8. Chonche Auto Double Happiness Tyre Corp Ltd.

9. City Ocean Logistics Co Ltd.

10. Consolidator Intl Co Ltd.

11. CTS Intl Logistics Corp.

12. De Well Container Shipping Inc.

13. England Logistics (Qingdao) Co Ltd.

14. Extra Type Co Ltd.

15. Fedex International Freight Forwarding Services Shanghai Co Ltd.

16. FG Intl Logistic Ltd.

17. JHJ Intl Transportation Co.

18. Kendra Rubber (China) Co Ltd.

19. Landmax Intl Co Ltd.

20. Orient Express Container Co Ltd.

21. Pudong Prime Intl Logistics Inc.

22. Qingdao Aotai Rubber Co Ltd.

23. Qingdao Chengtai Handtruck Co Ltd.

24. Qingdao Chuangtong Founding Co Ltd.

25. Qingdao Ftz Full-World Intl Trading Co Ltd.

26. Qingdao Haomai Hongyi Mold Co Ltd.

27. Qingdao Kaoyoung Intl Logistics Co Ltd.

28. Qingdao Milestone Tyres Co Ltd.

29. Qingdao Nexten Co Ltd.

30. Qingdao Wonderland.

31. Schenker China Ltd.

32. SGL Logistics South China Ltd.

33. Shanghai Grand South Intl Transportation Co Ltd.

34. Shanghai Hua Shen Imp & Exp Co Ltd.

35. Shanghai Part-Rich Auto Parts Co Ltd.

36. Thi Group (Shanghai) Ltd.

37. Tianjin United Tire & Rubber International Co., Ltd.

38. Toll Global Forwarding China Ltd.

39. Translink Shipping Inc.

40. Trelleborg Wheel Systems Hebei Co.

41. Universal Shipping Inc.

42. UTI China Ltd.

43. Weiss-Rohlig China Co Ltd.

44. World Bridge Logistics Co Ltd.

[FR Doc. 2016-24798 Filed 10-13-16; 8:45 am]

BILLING CODE 3510-DS-P